DEPARTMENT OF ENERGY

Federal Energy Regulatory Commission

[Docket No. EL13-72-000]

ISO New England Inc.; Notice of Initiation of Proceeding and Refund Effective Date

On June 14, 2013, the Commission issued an order that initiated a proceeding in Docket No. EL13-72-000, pursuant to section 206 of the Federal Power Act (FPA), 16 U.S.C. 824e (2006), to determine the justness and reasonableness of section III.A.15 of Appendix A of ISO New England Inc.'s existing tariff. Dominion Energy Marketing, Inc. and ISO New England Inc., 143 FERC ¶ 61,233 (2013).

The refund effective date in Docket No. EL13-72-000, established pursuant to section 206(b) of the FPA, will be the date of publication of this notice in the Federal Register.

Dated: June 14, 2013.
Nathaniel J. Davis, Sr.,
Deputy Secretary.

[FR Doc. 2013-15078 Filed 6-24-13; 8:45 am]

BILLING CODE 6717-01-P